DEPARTMENT OF COMMERCE
International Trade Administration
[C-122-839]
Certain Softwood Lumber Products from Canada: Final Results of Countervailing Duty New Shipper Review

AGENCY:
Import Administration, International Trade Administration, Department of Commerce.

ACTION:
Notice of Final Results of Countervailing Duty New Shipper Review.

SUMMARY:

On October 31, 2003, the Department of Commerce (the Department) published in the Federal Register the preliminary results of the countervailing duty (CVD) new shipper review in Certain Softwood Lumber Products from Canada. See Certain Softwood Lumber Products from Canada: Preliminary Results of New Shipper Countervailing Duty Review, 68 FR 62055 (October 31, 2003) (Preliminary Results).

The net subsidy rate in this Final Results does not differ from that indicated in the Preliminary Results. The final net subsidy rate for the reviewed company is listed below in the “Suspension of Liquidation” section of this notice.

EFFECTIVE DATE:
January 30, 2004.

FOR FURTHER INFORMATION CONTACT:
Jonathan McKernan at (202) 482-5973, Office of AD/CVD Enforcement VI, Group II, Import Administration, International Trade Administration, U.S. Department of Commerce, Room 4012, 14th Street and Constitution Avenue NW., Washington, DC 20230.

SUPPLEMENTARY INFORMATION
Background
On October 31, 2003, the Department published the Preliminary Results in the Federal Register. On December 9, 2003, the Department conducted verification of the questionnaire responses submitted by La Pointe & Roy Ltee. (La Pointe & Roy), the sole respondent subject to the new shipper review.
In accordance with 19 CFR 351.214(a), this new shipper review covers only those producers or exporters for which a review was specifically requested. Accordingly, this new shipper review covers subject merchandise produced and exported by La Pointe & Roy.
Scope of the Review
The products covered by this order are softwood lumber, flooring and siding (softwood lumber products). Softwood lumber products include all products classified under headings 4407.1000, 4409.1010, 4409.1090, and 4409.1020, respectively, of the Harmonized Tariff Schedule of the United States (HTSUS), and any softwood lumber, flooring and siding described below. These softwood lumber products include:
(1) Coniferous wood, sawn or chipped lengthwise, sliced or peeled, whether or not planed, sanded or finger-jointed, of a thickness exceeding six millimeters;
(2) Coniferous wood siding (including strips and friezes for parquet flooring, not assembled) continuously shaped (tongued, grooved, rabbeted, chamfered, v-jointed, beaded, molded, rounded or the like) along any of its edges or faces, whether or not planed, sanded or finger-jointed;
(3) Other coniferous wood (including strips and friezes for parquet flooring, not assembled) continuously shaped (tongued, grooved, rabbeted, chamfered, v-jointed, beaded, molded, rounded or the like) along any of its edges or faces (other than wood moldings and wood dowel rods) whether or not planed, sanded or finger-jointed; and
(4) Coniferous wood flooring (including strips and friezes for parquet flooring, not assembled) continuously shaped (tongued, grooved, rabbeted, chamfered, v-jointed, beaded, molded, rounded or the like) along any of its edges or faces, whether or not planed, sanded or finger-jointed.
Although the HTSUS subheadings are provided for convenience and customs purposes, the written description of the merchandise subject to this order is dispositive.

As specifically stated in the Issues and Decision Memorandum accompanying the Notice of Final Determination of Sales at Less Than Fair Value: Certain Softwood Lumber Products from Canada (67 FR 15539; April 2, 2002) (see comment 53, item D, page 116, and comment 57, item B-7, page 126), available at http://www.ia.ita.doc.gov, drilled and notched lumber and angle cut lumber are covered by the scope of this order.
The following softwood lumber products are excluded from the scope of this order provided they meet the specified requirements detailed below:
(1) Stringers (pallet components used for runners): if they have at least two notches on the side, positioned at equal distance from the center, to properly accommodate forklift blades, properly classified under HTSUS 4421.90.98.40.
(2) Box-spring frame kits: if they contain the following wooden pieces—two side rails, two end (or top) rails and varying numbers of slats. The side rails and the end rails should be radius-cut at both ends. The kits should be individually packaged, they should contain the exact number of wooden components needed to make a particular box spring frame, with no further processing required. None of the components exceeds 1″ in actual thickness or 83″ in length.
(3) Radius-cut box-spring-frame components, not exceeding 1″ in actual thickness or 83″ in length, ready for assembly without further processing. The radius cuts must be present on both ends of the boards and must be substantial cuts so as to completely round one corner.
(4) Fence pickets requiring no further processing and properly classified under HTSUS heading 4421.90.70, 1″ or less in actual thickness, up to 8″ wide, 6′ or less in length, and have finials or decorative cuttings that clearly identify them as fence pickets. In the case of dog-eared fence pickets, the corners of the boards should be cut off so as to remove pieces of wood in the shape of isosceles right angle triangles with sides measuring 3/4 inch or more.
(5) U.S. origin lumber shipped to Canada for minor processing and imported into the United States, is excluded from the scope of this order if the following conditions are met: (1) The processing occurring in Canada is limited to kiln-drying, planing to create smooth-to-size board, and sanding, and (2) if the importer establishes to the Bureau of Customs and Border Protection's (CBP) satisfaction that the lumber is of U.S. origin.
(6) Softwood lumber products contained in single family home packages or kits,1
regardless of tariff classification, are excluded from the scope of this order if the importer certifies to items 6 A, B, C, D, and requirement 6 E is met:

1 To ensure administrability, we clarified the language of exclusion number 6 to require an importer certification and to permit single or multiple entries on multiple days as well as instructing importers to retain and make available for inspection specific documentation in support of each entry.

A. The imported home package or kit constitutes a full package of the number of wooden pieces specified in the plan, design or blueprint necessary to produce a home of at least 700 square feet produced to a specified plan, design or blueprint;
B. The package or kit must contain all necessary internal and external doors and windows, nails, screws, glue, sub floor, sheathing, beams, posts, connectors, and if included in the purchase contract, decking, trim, drywall and roof shingles specified in the plan, design or blueprint.
C. Prior to importation, the package or kit must be sold to a retailer of complete home packages or kits pursuant to a valid purchase contract referencing the particular home design plan or blueprint, and signed by a customer not affiliated with the importer;
D. Softwood lumber products entered as part of a single family home package or kit, whether in a single entry or multiple entries on multiple days, will be used solely for the construction of the single family home specified by the home design matching the entry.
E. For each entry, the following documentation must be retained by the importer and made available to the CBP upon request:
i. A copy of the appropriate home design, plan, or blueprint matching the entry;
ii. A purchase contract from a retailer of home kits or packages signed by a customer not affiliated with the importer;
iii. A listing of inventory of all parts of the package or kit being entered that conforms to the home design package being entered;
iv. In the case of multiple shipments on the same contract, all items listed in E(iii) which are included in the present shipment shall be identified as well.
Lumber products that the CBP may classify as stringers, radius cut box-spring-frame components, and fence pickets, not conforming to the above requirements, as well as truss components, pallet components, and door and window frame parts, are covered under the scope of this order and may be classified under HTSUS subheadings 4418.90.45.90 , 4421.90.70.40, and 4421.90.97.40.
Finally, as clarified throughout the course of the investigation, the following products, previously identified as Group A, remain outside the scope of this order. They are:
1. Trusses and truss kits, properly classified under HTSUS 4418.90;
2. I-joist beams;
3. Assembled box spring frames;
4. Pallets and pallet kits, properly classified under HTSUS 4415.20;
5. Garage doors;
6. Edge-glued wood, properly classified under HTSUS item 4421.90.98.40;
7. Properly classified complete door frames;
8. Properly classified complete window frames;
9. Properly classified furniture.
In addition, this scope language has been further clarified to now specify that all softwood lumber products entered from Canada claiming non-subject status based on U.S. country of origin will be treated as non-subject U.S.-origin merchandise under the countervailing duty order, provided that these softwood lumber products meet the following condition: upon entry, the importer, exporter, Canadian processor and/or original U.S. producer establish to CBP's satisfaction that the softwood lumber entered and documented as U.S.-origin softwood lumber was first produced in the United States as a lumber product satisfying the physical parameters of the softwood lumber scope.2
The presumption of non-subject status can, however, be rebutted by evidence demonstrating that the merchandise was substantially transformed in Canada.

2 See the scope clarification message (# 3034202), dated February 3, 2003, to the CBP, regarding treatment of U.S. origin lumber on file in the Central Records Unit, Room B-099 of the main Commerce Building.

Analysis of Comments Received

We received no comments from interested parties regarding our Preliminary Results.

A description of our calculation of the net subsidy rate is addressed in the “Issues and Decision Memorandum” (Decision Memorandum) dated January 22, 2004, which is hereby adopted by this notice. Attached to this notice is Appendix I, which contains an outline of the Decision Memorandum. Parties can find a complete copy of the Decision Memorandum, a public document, in room B-099 of the Main Commerce Building. In addition, a complete version of the Decision Memorandum can be accessed directly on the World Wide Web at http://www.ia.ita.doc.gov, under the heading “Federal Register Notices.” The paper copy and electronic version of the Decision Memorandum are identical in content.
Suspension of Liquidation
In accordance with 19 CFR 351.214(a), we have calculated an individual rate for La Pointe & Roy. We determine the net subsidy rate for La Pointe & Roy to be as follows:

Producer/Exporter
Net subsidy rate

La Pointe & Roy Ltee
.0.08 percent ad valorem.

As provided for in 19 CFR 351.106(c)(1), any rate less than 0.5 percent ad valorem­ in a new shipper review is de minimis. Accordingly, no countervailing duties will be assessed on La Pointe & Roy. The Department will instruct the CBP to liquidate, without regard to countervailing duties, shipments of the subject merchandise produced and exported by La Pointe & Roy that were entered, or withdrawn from warehouse, for consumption on or after May 22, 2002, the date on which entries of subject merchandise were suspended under this order, and on or before December 31, 2002. In addition, the cash deposit rate for this company will be set at zero, prospectively.
Return or Destruction of Proprietary Information

This notice will serve as the only reminder to parties subject to Administrative Protective Order (APO) of their responsibility concerning the destruction of proprietary information disclosed under APO in accordance with 19 CFR 351.305(a)(3). Failure to comply is a violation of the APO.
This determination is published pursuant to section 777(i) of the Act.

Dated: January 22, 2004.
James J. Jochum,
Assistant Secretary for Import Administration.

Appendix I—Issues and Decision Memorandum
Analysis of Programs
I. Programs Determined to Be Countervailable
A. Private Forest Development Program (PFDF)
II. Programs Determined to Be Not Used
A. Provincial Stumpage Program
B. Export Assistance under the Societe de Developpement Industrial du Quebec (SDI)/Investissement Quebec (IQ)
C. Assistance under Articles 7 and 28 of the SDI
D. Assistance from the Societe de Recuperation d'Exploitation et de Developpement Forestiers du Quebec (Rexfor)
III. Total Ad Valorem Rate
IV. Recommendation

[FR Doc. 04-1989 Filed 1-29-04; 8:45 am]
BILLING CODE 3510-DS-P